DEPARTMENT OF ENERGY

Computer Software Available for License

AGENCY: Office of General Counsel, Department of Energy.

ACTION: Notice of computer software available for license.

SUMMARY: The U.S. Department of Energy announces that the following computer software is available for license: “Thermal Safety Software” or TSS.

FOR FURTHER INFORMATION CONTACT: John T. Lucas, Office of the Assistant General Counsel for Technology Transfer and Intellectual Property, U.S. Department of Energy, 1000 Independence Ave., SW., Washington, DC 20585; Telephone (202) 586-2802.

SUPPLEMENTARY INFORMATION: The above-captioned computer software was developed under the International Science and Technology Center (ISTC) project #1498. The system, called “Thermal Safety Software” or TSS, is designed to address the complex problems associated with performing reactive hazard assessment (RHA) of chemical processes. This is achieved by extensive use of mathematical models and computational methods implemented in the software set. TSS application can significantly improve reliability of results, speed up the design, research, and development work and reduce its cost. TSS has the following general features: (1) Sequential simulation as the approach to reactive hazard assessment; (2) combination of powerful numerical methods and researcher's skills; (3) up-to-date numerical methods and web-based technologies; (4) integration of the software suite in one system; (5) a unified user-friendly interface; (6) advanced graphics; and (7) an advanced training system.

The software currently may be in need of revision, and the Department is looking for one or more private-sector parties who will revise and maintain the software at their own expense. The private sector party or parties will have the right to market the software to non-Government parties. The Government will retain an unlimited, royalty free, non-exclusive license in the original version of the software for Governmental purposes.

Parties will be given 45 calendar days from the date of this Notice to contact the Department. After the period for response has elapsed, respondents will be sent a series of questions on their plans for revising, maintaining and commercializing the software, and under what terms they would make it available to the Government. DOE will then decide which party or parties to select.

Issued in Washington, DC, on September 29, 2004.
Paul A. Gottlieb,
Assistant General Counsel for Technology, Transfer and Intellectual Property.

[FR Doc. 04-22358 Filed 10-4-04; 8:45 am]

BILLING CODE 6450-01-P